NATIONAL SCIENCE FOUNDATION

Sunshine Act Meetings

The National Science Board's (NSB) Committee on Oversight (CO) hereby gives notice of the scheduling of a videoconference for the transaction of National Science Board business pursuant to the National Science Foundation Act and the Government in the Sunshine Act.

TIME AND DATE: Tuesday, April 29, 2025, from 12 p.m.-1 p.m. Eastern.

PLACE: The meeting will be held by videoconference through the National Science Foundation, 2415 Eisenhower Avenue, Alexandria, VA 22314. Members of the public can observe this meeting through YouTube livestream. The YouTube link will be available from the NSB meetings web page— https://www.nsf.gov/nsb/meetings/index.jsp.

STATUS: Open.

MATTERS TO BE CONSIDERED: Committee Chair's opening remarks and approval of previous committee minutes; discussion of the draft Overview to the Merit Review Digests for FY 2022 and 2023 and vote to approve; and Committee Chair's closing remarks.

CONTACT PERSON FOR MORE INFORMATION: Point of contact for this meeting is Chris Blair, cblair@nsf.gov, 703/292-7000.

Ann E. Bushmiller,
Senior Counsel to the National Science Board.

[FR Doc. 2025-07277 Filed 4-23-25; 4:15 pm]

BILLING CODE 7555-01-P